DEPARTMENT OF DEFENSE

Department of the Air Force

Notice of Availability of Federally Owned Inventions; Available for Licensing

ACTION: Notice.

SUMMARY: Pursuant to the provisions of part 404 of title 37, Code of Federal Regulations, which implements Public Law 96-517, as amended; the Department of the Air Force announces the availability of Air Force owned invention U.S. Patent Application Serial No. 14/187,378, titled “Radio Interface,” by Burnett et al., filed February 24, 2014, for Licensing from the Air Force Research Laboratory, 711th Human Performance Wing. Licensing inquiries should be sent to and license application form obtained from: Joan Wu-Singel, TechLink, 2310 University Way, Bldg. 2-2, Bozeman, MT 59715; email: jwu-singel@montana.edu; facsimile: (406) 994-7701; telephone: 406-994-7705. TechLink is an authorized DoD partnership intermediary.

FOR FURTHER INFORMATION CONTACT: John Schutte, Technology Transfer Specialist, 711th Human Performance Wing; email: john.schutte.3@us.af.mil; telephone 937-255-3796.

Henry Williams,
DAF, Acting Air Force Federal Register Liaison Officer.

[FR Doc. 2014-12855 Filed 6-3-14; 8:45 am]

BILLING CODE 5001-10-P